DEPARTMENT OF DEFENSE

Office of the Secretary

[Docket ID: DoD-2021-OS-0108]

Proposed Collection; Comment Request

AGENCY: The Office of the Under Secretary of Defense for Research and Engineering, Department of Defense (DoD).

ACTION: Information collection notice.

SUMMARY: In compliance with the Paperwork Reduction Act of 1995, the Defense Technical Information Center (DTIC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 27, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Technical Information Center, 8725 John J. Kingman Road, Ft. Belvoir, VA 22060-6218 ATTN: Ms. Vakare Valaitis, or call (703) 767-9159.

SUPPLEMENTARY INFORMATION:

Title; Associated Form; and OMB Number: Defense User Registration System (DURS); OMB Control Number 0704-0546.

Needs and Uses: DTIC requires all eligible users to be registered for access to DTIC's repository of access-controlled scientific and technical information documents. This system is called the Defense User Registration System, or DURS. The registration of a user enforces validation of an individual's identity, as well as that individual's persona (i.e., whether the individual is DoD, Federal government, or a contractor supporting the DoD or another federal agency) and that individual's authority to access limited and classified documents with distribution controls. A role-based environment based on a user's identification ensures security for DTIC's electronic information collection while the online systems increase availability of information to each user based on his or her mission needs.

Affected Public: Individuals or Households; Business or Other For-Profit; Not-For-Profit Institutions.

Annual Burden Hours: 1,325.

Number of Respondents: 6,625.

Responses per Respondent: 1.

Annual Responses: 6,625.

Average Burden per Response: 12 minutes.

Frequency: On occasion.

Dated: October 20, 2021.
Kayyonne T. Marston,
Alternate OSD Federal Register Liaison Officer, Department of Defense.

[FR Doc. 2021-23207 Filed 10-22-21; 8:45 am]

BILLING CODE 5001-06-P